DEPARTMENT OF EDUCATION

National Advisory Committee on Institutional Quality and Integrity (National Advisory Committee); Meeting

AGENCY: National Advisory Committee on Institutional Quality and Integrity, Department of Education.

What Is the Purpose of This Notice?

The purpose of this notice is to announce the public meeting of the National Advisory Committee and invite third-party oral presentations before the Committee. This notice also presents the proposed agenda and informs the public of its opportunity to attend this meeting. The notice of this meeting is required under section 10(a)(2) of the Federal Advisory Committee Act.

When and Where Will the Meeting Take Place?

We will hold the public meeting on Wednesday, December 7, 2005, from 9:30 a.m. until approximately 5:15 p.m.; on Thursday, December 8, 2005, from 8:30 a.m. until approximately 5:15 p.m., and on Friday, December 9, 2005, from 8:30 a.m. until approximately 12:30 p.m. in the Commonwealth Room at the DoubleTree Hotel—Crystal City, 300 Army Navy Drive, Arlington, VA 22202. You may call the hotel on (703) 416-4100 to inquire about rooms.

What Assistance Will Be Provided to Individuals With Disabilities?

The meeting site is accessible to individuals with disabilities. If you will need an auxiliary aid or service to participate in the meeting (e.g., interpreting service, assistive listening device, or materials in an alternate format), notify the contact person listed in this notice at least two weeks before the scheduled meeting date. Although we will attempt to meet a request received after that date, we may not be able to make available the requested auxiliary aid or service because of insufficient time to arrange it.

Who Is the Contact Person for the Meeting?

Please contact Ms. Francesca Paris-Albertson, in the office of Executive Director of the National Advisory Committee on Institutional Quality and Integrity, if you have questions about the meeting. You may contact her at the U.S. Department of Education, room 7107, 1990 K St., NW., Washington, DC 20006, telephone: (202) 502-7671, fax: (202) 219-7008, e-mail: Francesca.Paris-Albertson@ed.gov.

Individuals who use a telecommunications device for the deaf (TDD) may call the Federal Information Relay Service at 1-800-877-8339.

What Is the Authority for the National Advisory Committee?

The National Advisory Committee on Institutional Quality and Integrity is established under Section 114 of the Higher Education Act (HEA) as amended, 20 U.S.C. 1011c.

What Are the Functions of the National Advisory Committee?

The Committee advises the Secretary of Education about:

• The establishment and enforcement of the Criteria for Recognition of accrediting agencies or associations under subpart 2 of part H of Title IV, HEA.

• The recognition of specific accrediting agencies or associations.

• The preparation and publication of the list of nationally recognized accrediting agencies and associations.

• The eligibility and certification process for institutions of higher education under Title IV, HEA.

• The development of standards and criteria for specific categories of vocational training institutions and institutions of higher education for which there are no recognized accrediting agencies, associations, or State agencies in order to establish the interim eligibility of those institutions to participate in Federally funded programs.

• The relationship between: (1) Accreditation of institutions of higher education and the certification and eligibility of such institutions, and (2) State licensing responsibilities with respect to such institutions.

• Any other advisory functions relating to accreditation and institutional eligibility that the Secretary may prescribe.

What Items Will be on the Agenda for Discussion at the Meeting?

Agenda topics will include the review of agencies that have submitted petitions for renewal of recognition and/or an expansion of an agency's scope of recognition, and the review of agencies that have submitted an interim report or a progress report.

What Agencies Will the National Advisory Committee Review at the Meeting?

The following agencies will be reviewed during the December 7-9, 2005 meeting of the National Advisory Committee:

Nationally Recognized Accrediting Agencies

Petition for an Expansion of the Scope of Recognition

1. Accrediting Commission of Career Schools and Colleges of Technology (Current scope of recognition: The accreditation of private, postsecondary, non-degree-granting institutions and degree-granting institutions in the United States, including those granting associate and baccalaureate degrees, that are predominantly organized to educate students for occupational, trade and technical careers, and including institutions that offer programs via distance education.) (Requested scope of recognition: The accreditation of private, postsecondary, non-degree-granting institutions and degree-granting institutions in the United States, including those granting associate, baccalaureate, and master's degrees, that are predominantly organized to educate students for occupational, trade and technical careers, and including institutions that offer programs via distance education.)

Petitions for Renewal of Recognition

1. Accreditation Commission for Acupuncture and Oriental Medicine (Current scope of recognition: The accreditation throughout the United States of first-professional master's degree and professional master's level certificate and diploma programs in acupuncture and Oriental medicine, as well as freestanding institutions and colleges of acupuncture or Oriental medicine that offer such programs.) (Requested scope of recognition: The accreditation and preaccreditation throughout the United States of first-professional Master's degree and professional Master's level certificate and diploma programs in acupuncture and Oriental medicine, as well as freestanding institutions and colleges of acupuncture or Oriental medicine that offer such programs.)

2. American Association for Marriage and Family Therapy, Commission on Accreditation for Marriage and Family Therapy Education (Current and requested scope of recognition: The accreditation and preaccreditation (“Candidacy”) throughout the United States of clinical training programs in marriage and family therapy at the master's, doctoral, and postgraduate levels.)

3. American Bar Association, Council of the Section of Legal Education and Admissions to the Bar (Current and requested scope of recognition: The accreditation throughout the United States of programs in legal education that lead to the first professional degree in law, as well as freestanding law schools offering such programs.)

4. American Osteopathic Association, Commission on Osteopathic College Accreditation (Current and requested scope of recognition: The accreditation and preaccreditation (“Provisional Accreditation”) throughout the United States of freestanding, public and private non-profit institutions of osteopathic medicine and programs leading to the degree of Doctor of Osteopathy or Doctor of Osteopathic Medicine.)

5. American Podiatric Medical Association, Council on Podiatric Medical Education (Current and requested scope of recognition: The accreditation and preaccreditation (“Candidate Status”) throughout the United States of freestanding colleges of podiatric medicine and programs of podiatric medicine, including first professional programs leading to the degree of Doctor of Podiatric Medicine.)

6. Council on Occupational Education (Current scope of recognition: The accreditation and preaccreditation (“Candidacy status”) throughout the United States of non-degree granting postsecondary occupational/vocational institutions and those postsecondary occupational/vocational education institutions that have state authorization to grant the applied associate degree in specific vocational/occupational fields.) (Requested scope of recognition: The accreditation and preaccreditation (“Candidacy status”) throughout the United States of postsecondary occupational education institutions offering non-degree and applied associate degree programs in specific career and technical education fields, including institutions that offer programs via distance education.)

Note: This requested scope of recognition differs from the requested scope of recognition in the July 25, 2005 Federal Register that invited written comments. The agency requested the revised language to clarify the scope and replace the terms “vocational/occupational” with “career and technical.”

7. National Council for Accreditation of Teacher Education (Current and requested scope of recognition: The accreditation throughout the United States of professional education units providing baccalaureate and graduate degree programs for the preparation of teachers and other professional personnel for elementary and secondary schools.)

8. New England Association of Schools and Colleges, Commission on Technical and Career Institutions (Current and requested scope of recognition: The accreditation and preaccreditation (“Candidate status”) of secondary institutions with vocational-technical programs at the 13th and 14th grade level, postsecondary institutions, and institutions of higher education that provide primarily vocational/technical education at the certificate, associate, and baccalaureate degree levels in Connecticut, Maine, Massachusetts, New Hampshire, Rhode Island, and Vermont. This recognition extends to the Board of Trustees of the Association jointly with the Commission for decisions involving preaccreditation, initial accreditation, and adverse actions.)

Interim Report (An interim report is a follow-up report on an accrediting agency's compliance with specific criteria for recognition that was requested by the Secretary when the Secretary granted renewed recognition to the agency.)

1. Middle States Commission on Secondary Schools.

2. National Association of Schools of Art and Design, Commission on Accreditation.

3. National Association of Schools of Dance, Commission on Accreditation.

4. National Association of Schools of Music, Commission on Accreditation, Commission on Non-Degree-Granting Accreditation, Commission on Community/Junior College Accreditation.

5. National Association of Schools of Theatre, Commission on Accreditation.

6. North Central Association Commission on Accreditation and School Improvement, Board of Trustees.

7. North Central Association of Colleges and Schools, The Higher Learning Commission.

8. New England Association of Schools and Colleges, Commission on Institutions of Higher Education.

9. Western Association of Schools and Colleges, Accrediting Commission for Schools.

Progress Report (A report describing the agency's implementation of its process for measuring success with respect to student achievement in the institutions that it accredits.)

1. American Academy for Liberal Education.

State Agencies Recognized for the Approval of Public Postsecondary Vocational Education

Interim Reports

1. Pennsylvania State Board for Vocational Education, Bureau of Career and Technical Education.

2. Oklahoma Board of Career and Technology Education.

State Agency Recognized for the Approval of Nurse Education

Interim Report

1. Montana State Board of Nursing.

Who Can Make Third-Party Oral Presentations at This Meeting?

We invite you to make a third-party oral presentation before the National Advisory Committee concerning the recognition of any agency published in this notice.

How Do I Request To Make an Oral Presentation?

You must submit a written request to make an oral presentation concerning an agency listed in this notice to the contact person so that the request is received via mail, fax, or e-mail no later than November 16, 2005. Your request (no more than 6 pages maximum) must include:

1. The names, addresses, phone and fax numbers, and e-mail addresses of all persons seeking an appearance,

2. The organization they represent, and

3. A brief summary of the principal points to be made during the oral presentation.

If you wish, you may attach documents illustrating the main points of your oral testimony. Please keep in mind, however, that any attachments are included in the 6-page limit. Please do not send materials directly to Committee members. Only materials submitted by the deadline to the contact person listed in this notice and in accordance with these instructions become part of the official record and are considered by the Committee in its deliberations. Documents received after the November 16, 2005 deadline will not be distributed to the National Advisory Committee for their consideration. Individuals making oral presentations may not distribute written materials at the meeting.

If I Cannot Attend the Meeting, Can I Submit Written Comments Regarding an Accrediting Agency in Lieu of Making an Oral Presentation?

This notice requests third-party oral testimony, not written comment. Requests for written comments on agencies that are being reviewed during this meeting were published in the Federal Register on July 25, 2005. The National Advisory Committee will receive and consider only written comments submitted by the deadline specified in the above-referenced Federal Register notice.

How Do I Request To Present Comments Regarding General Issues Rather Than Specific Accrediting Agencies?

At the conclusion of the meeting, the National Advisory Committee, at its discretion, may invite attendees to address the Committee briefly on issues pertaining to the functions of the Committee, which are listed earlier in this notice. If you are interested in making such comments, you should inform Ms. Paris-Albertson before or during the meeting.

How May I Obtain Access to the Records of the Meeting?

We will record the meeting and make a transcript available for public inspection at the U.S. Department of Education, 1990 K St., NW., Washington, DC 20006 between the hours of 9 a.m. and 4:30 p.m., Monday through Friday, except Federal holidays. It is preferred that an appointment be made in advance of such inspection.

How May I Obtain Electronic Access to This Document?

You may view this document, as well as all other Department of Education documents published in the Federal Register, in text or Adobe Portable Document Format (PDF) on the Internet at the following site: http://www.ed.gov/legislation/FedRegister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/index.html.

Authority: 5 U.S.C. Appendix 2.

Dated: September 27, 2005.
Sally L. Stroup,
Assistant Secretary for Postsecondary Education.

[FR Doc. 05-19695 Filed 9-30-05; 8:45 am]

BILLING CODE 4000-01-P